DEPARTMENT OF THE INTERIOR

Bureau of Land Management

[OR-110-6333-JE; HAG03-0004]

Notice of Intent To Prepare an Environmental Impact Statement for Restoration and Timber Salvage Within the Timbered Rock Fire, Medford District, OR

AGENCY: Bureau of Land Management, U.S. Department of the Interior.

ACTION: Notice of intent to prepare an Environmental Impact Statement (EIS) and conduct public scoping for restoration and timber salvage within the Timbered Rock Fire, Medford District, Oregon.

SUMMARY: This document provides notice that the Bureau of Land Management (BLM) intends to prepare an EIS for the restoration and timber salvage within the Timbered Rock Fire, Medford District, Oregon. This planning activity encompasses 11,755 acres of BLM-administered land that was burned in the summer of 2002 Timbered Rock Wildfire, which burned in total 26,974 acres. This EIS will fulfill the needs and obligations set forth by the National Environmental Policy Act (NEPA), the Federal Land Policy and Management Act (FLPMA), and BLM management policies. The BLM will work collaboratively with interested parties to identify the management decisions that are best suited to local, regional, and national needs and concerns. The public scoping process will help identify issues to be addressed, possible alternatives, data gaps, and possible conflicts with existing management direction. The purpose of the EIS is to take a more detailed look at restoration activities, salvage logging opportunities, and opportunities for long-term resource studies.

DATES: This notice initiates the public scoping process. Comments on issues and the scope of the analysis can be submitted in writing to the address listed below and will be accepted throughout the creation of the EIS. All public meetings will be announced through the local news media, newsletters, and the Washington/Oregon BLM Web site (http://www.or.blm.gov) at least 15 days prior to the event. The minutes and list of attendees for each meeting will be available to the public and open for 30 days following the publication of this notice to any participant who wishes to clarify the views they expressed. Early participation is encouraged and will help determine the future management of the public lands burned by the Timbered Rock Fire.

ADDRESSES: Written comments should be sent to the Bureau of Land Management, ATTN: Jean Williams, 3040 Biddle Road, Medford, OR 97504. Comments, including names and street addresses of respondents, will be available for public review at the Medford District office during regular business hours (7:45 AM to 4:30 PM) Monday through Friday, except holidays, and may be published as part of the environmental analysis or other related documents. Individual respondents may request confidentiality. If you wish to withhold your name or address from public review or from disclosure under the Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: For further information, and/or to have your name added to our mailing list, contact Jean Williams at (541) 618-2385 or John Bergin at (541) 618-2265.

SUPPLEMENTARY INFORMATION: Restoration of lands and economic recovery of resources damaged by wildfire are important activities following control of wildfires. The level and intensity of these activities can vary greatly depending upon a variety of factors. Public lands administered by the BLM in the Timbered Rock Fire are located entirely within a Late-Successional Reserve (LSR) and Tier 1 Key watershed and contains 18 owl activity centers. These land use allocations will have an effect on restoration actions and salvage opportunities that will be addressed in the Environmental Impact Statement. The environmental analyses will, as appropriate, address a range of restorative options, salvage opportunities, and potential long-term study opportunities. A No Action Alternative will be analyzed. One or more of the alternatives may address some modification to Standards and Guidelines from the Northwest Forest Plan (NFP), the Medford District Resource Management Plan (RMP), and site-specific LSR Assessments (LSRA) that apply to the fire. Input from the scoping process will be used to determine the scope of the analysis consistent with the requirements of 40 CFR 1501.7 and 1508.22. The scoping process includes:

• Defining the scope of the analysis and the nature of the decisions to be made.

• Identify the issues for consideration within the environmental analyses;

• Identify possible alternatives;

• Identify possible or potential environmental effects;

• Identify groups or individuals that would be interested in or affected by the restorative or economic recovery actions.

The BLM will seek information, comments, and assistance from Federal, State, and local agencies and other individuals, organizations, or businesses interested in or affected by the actions. Disciplines that may be included on the analysis team include forestry, soils, hydrology, fisheries, wildlife, fuels management, and others.

Possible cooperating agencies include the U.S. Fish and Wildlife Service, the National Marine Fisheries Service, the Army Corps of Engineers, and the Rogue River National Forest. The public is asked to identify issues they believe should be assessed in the Environmental Impact Statement and provide ideas and suggestions on restorative actions and economic recovery of timber resources and alternatives they think should be considered.

Dated: December 4, 2002.
Kathy Eaton,
Acting Oregon/Washington State Director.

[FR Doc. 03-1539 Filed 1-23-03; 8:45 am]

BILLING CODE 4310-33-P